DEPARTMENT OF DEFENSE

Department of the Army, Corps of Engineers

Withdrawal of the Notice of Intent To Prepare an Environmental Impact Statement for the Mississippi River Hatchie/Loosahatchie, MS River Mile 775-736, Tennessee and Arkansas, Ecosystem Restoration Feasibility Study

AGENCY: U.S. Army Corps of Engineers, DoD.

ACTION: Notice of intent; withdrawal.

SUMMARY: The U.S. Army Corps of Engineers (USACE), Memphis District is terminating preparation of a Draft Integrated Feasibility Report and Environmental Impact Statement (DIFR-EIS) for the Hatchie-Loosahatchie Mississippi River Ecosystem Restoration Study. A Notice of Intent to prepare the DIFR-EIS was published in the November 4, 2022, issue of the Federal Register. The USACE has since determined that a Draft Integrated Feasibility Report and Environmental Assessment (DIFR-EA) rather than an EIS is the appropriate level of environmental documentation for the study.

DATES: The DIFR-EA is presently scheduled to be available for public review and comment in early 2023. A final IFR-EA is tentatively scheduled for release in May 2024.

ADDRESSES: U.S. Army Corps of Engineers, Memphis District, Attn: CEMVN-PDC-UDC, 167 North Main St., Room B-202, Memphis, Tennessee 38103.

FOR FURTHER INFORMATION CONTACT: Mike Thron, U.S. Army Corps of Engineers, Memphis District; phone 901-544-0708; email LMRRA-Hatchie-Loosahatchie@usace.army.mil. For additional information about the study, please visit the project website at: https://www.mvm.usace.army.mil/Missions/Environmental-Stewardship/Hatchie-Loosahatchie-Mississippi-River-Ecosystem-Restoration-Study/.

SUPPLEMENTARY INFORMATION: The Hatchie-Loosahatchie Mississippi River Ecosystem Restoration Study seeks to examine restoring ecological structure and function to the mosaic of habitats along the lower Mississippi River (LMR) and its floodplain between River Miles 775 and 736 including secondary channels and other floodplain aquatic habitats; floodplain forests; and several scarce vegetative communities such as, wetlands, rivercane, riverfront forests, and bottomland hardwood forests. The study was originally scoped as an EIS. A notice of intent to prepare an EIS was published in the Federal Register on November 4, 2022 (87 FR 66681). The scoping comment period ended on December 5, 2022. During scoping, a project website was prepared, press releases and notifications were sent to affected agencies and interested parties, and one virtual public meeting and three in-person public meetings were conducted in Henning, Tennessee, Millington, Tennessee, and Marion, Arkansas, respectively. No adverse comments were received, and all comments were generally supportive of the proposed activities. Additionally, the plan formulation process resulted in a reduced number of measures in the current array of alternatives being considered since the initiation of the study.

The USACE will notify the public in advance of the availability of the draft and final IFR-EAs through press releases, special public notices, and USACE-Memphis District social media platforms. All public review and project related information will continue to be made available at: https://www.mvm.usace.army.mil/Missions/Environmental-Stewardship/Hatchie-Loosahatchie-Mississippi-River-Ecosystem-Restoration-Study/.

James Bodron,
Acting Programs Director, Mississippi Valley Division.

[FR Doc. 2023-01456 Filed 1-24-23; 8:45 am]

BILLING CODE 3720-58-P